DEPARTMENT OF HOUSING AND URBAN DEVELOPMENT

[Docket No. FR-5681-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert More, 2261 Hughes Avenue, Ste. 156, Lackland AFB, TX, 78236, (210)-395-9512; Energy: Mr. Mark C. Price, Department of Energy, Office of Engineering & Construction Management, OECM MA-50, 4B122, 1000 Independence Avenue SW., Washington, DC 20585, (202)-586-5422; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202)-358-1124; Navy: Mr. Steve Matteo, Department of the Navy, Asset Management Division, Naval Facilities Engineering Command, Washington Navy Yard, 1322 Patterson Avenue SE., Ste. 1000, Washington, DC 20374, (202)-685-9426; VA: Ms. Jessica L. Kaplan, Real Property Service, Department of Veterans Affairs, 810 Vermont Avenue NW., (003C1E), Washington, DC 20420, (202)-461-8234; (These are not toll-free numbers).

Dated: March 7, 2013.
Mark Johnston,
Deputy Assistant Secretary for Special Needs.

Title V, Federal Surplus Property Program Federal Register Report for 03/15/2013

Suitable/Available Properties

Buildings

New Jersey

Former SSA Trust Fund Bldg.

396 Bloomfield Ave.

Montclair NJ 07042

Landholding Agency: GSA

Property Number: 54201310004

Status: Surplus

GSA Number: 1-G-NJ-0676

Comments: RE-PUBLISHED: status updated to `Surplus'; 7,183 sf.; office; vacant since March 2012

New York

JJP Bronx VA Medical Ctr.

130 West Kingsbridge Rd.

Bronx NY 10468

Landholding Agency: VA

Property Number: 97201310002

Status: Unutilized

Comments: 700-1,000 sf.; residential; renovations needed; contact VA for more info.

Land

Georgia

Former GNK Outer Marker

Hunt Rd.

LaGrange GA 31909

Landholding Agency: GSA

Property Number: 54201310008

Status: Excess

GSA Number: 4-U-GU-888A

Comments: 0.918 acres

South Dakota

Gettysburg Radio Tower Site

Potter County

Gettysburg SD 57442

Landholding Agency: GSA

Property Number: 54201310007

Status: Surplus

GSA Number: 7-D-SD-0537

Directions: one antenna tower & 144 sf. bldg. located on property

Comments: 2.21 acres; 144 sf. bldg. is used for storage

Unsuitable Properties

Buildings

California

Buildings PM353 & PM2-825

311 Main Rd.

Point Mugu CA 93043

Landholding Agency: Navy

Property Number: 77201310002

Status: Underutilized

Comments: w/in secured area; public access denied & no alternative method to gain access w/out compromising nat'l security

Reasons: Secured Area

Buildings PM789 & PM 4-30

311 Main Rd.

Point Mugu CA 93043

Landholding Agency: Navy

Property Number: 77201310003

Status: Unutilized

Comments: w/in secured area; public access denied & no alternative method to gain access w/out compromising nat'l security

Reasons: Secured Area

Missouri

Building 115

10800 Lambert Int'l Blvd.

St. Louis MO 63044

Landholding Agency: Air Force

Property Number: 18201310004

Status: Unutilized

Comments: restricted military installation; public access denied & no alternative method to gain access w/out compromising nat'l security

Reasons: Secured Area

New Mexico

Facility 213

White Sands Test Fac.

Las Cruces NM 88012

Landholding Agency: NASA

Property Number: 71201310001

Status: Unutilized

Comments: located w/in secured area; public access denied & no alternative method to gain access w/out compromising nat'l security

Reasons: Secured Area

Tennessee

Building 9744

Y-12 Nat'l Security Complex

Oak Ridge TN 37831

Landholding Agency: Energy

Property Number: 41201310001

Status: Unutilized

Comments: located w/in restricted area; public access denied & no alternative method to gain access w/out compromising nat'l security

Reasons: Secured Area

Texas

2.747 Acres

Joint Base San Antonio

Ft. Sam Houston TX

Landholding Agency: Air Force

Property Number: 18201310031

Status: Unutilized

Comments: w/in secured area; public access denied & no alternative method to gain access w/out compromising nat'l security

Reasons: Secured Area

[FR Doc. 2013-05672 Filed 3-14-13; 8:45 am]

BILLING CODE 4210-67-P